DEPARTMENT OF AGRICULTURE

Forest Service

Dixie Resource Advisory Committee

AGENCY: Forest Service, USDA.

ACTION: Notice of meetings.

SUMMARY: The Dixie Resource Advisory Committee will meet in Cedar City, Utah. The committee is meeting as authorized under the Secure Rural Schools and Community Self-Determination Act (Pub. L. 110-343) and in compliance with the Federal Advisory Committee Act. The purpose of this meeting is to make recommendations for Title II projects. The March 16, 2011 meeting has been cancelled.

DATES: Wednesday, March 30, 2011.

ADDRESSES: The meeting will be held at Paiute Tribe of Utah Headquarters, 440 North Paiute Drive (200 East), Cedar City, Utah. The public is invited to attend the meetings.

FOR FURTHER INFORMATION CONTACT: Kenton Call, RAC Coordinator, Dixie National Forest, (435) 865-3730; e-mail: ckcall@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Welcome and committee introductions; (2) review of category voting from previous meeting; (3) discussion of RAC project recommendations; and (4) public comment on any proposals. Persons who wish to bring related matters to the attention of the Committee may file written statements with the Committee staff before or after the meeting. Public input will be accepted by the RAC during the meetings.

Dated: March 3, 2011.
Robert G. MacWhorter,
Forest Supervisor.

[FR Doc. 2011-5297 Filed 3-8-11; 8:45 am]

BILLING CODE 3410-11-P